DEPARTMENT OF DEFENSE

Office of the Secretary

[Docket ID DOD-2012-OS-0078]

Privacy Act of 1974; System of Records

AGENCY: Office of the Inspector General, DoD.

ACTION: Notice To Alter a System of Records.

SUMMARY: The Office of the Inspector General proposes to alter a system of records in its inventory of record systems subject to the Privacy Act of 1974 (5 U.S.C. 552a), as amended. This system claims those exempt records that are or may be incorporated into this system of records which will remain exempt, but only to the extent to which the provisions of the Act for which an exemption has been claimed are identified and an exemption claimed for the system of records from which the record is obtained and only when the purposes underlying the exemption for the record are still valid and necessary to protect the contents of the record.

DATES: This proposed action will be effective on July 30, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tanya Layne at (703) 604-9779, Office of the Inspector General, 4800 Mark Center Drive, Alexandria, Virginia 22350-1500.

SUPPLEMENTARY INFORMATION: The Office of the Inspector General notices for systems of records subject to the Privacy Act of 1974 (5 U.S.C. 552a), as amended, have been published in the Federal Register and are available from the address in FOR FURTHER INFORMATION CONTACT.

The proposed systems reports, as required by 5 U.S.C. 552a(r) of the Privacy Act, were submitted on June 18, 2012 to the House Committee on Oversight and Government Reform, the Senate Committee on Homeland Security and Governmental Affairs, and the Office of Management and Budget (OMB) pursuant to paragraph 4c of Appendix I to OMB Circular No. A-130, “Federal Agency Responsibilities for Maintaining Records about Individuals,” dated February 8, 1996, (February 20, 1996, 61 FR 6427).

Dated: June 25, 2012.
Aaron Siegel,
Alternate OSD Federal Register Liaison Officer, Department of Defense.

CIG-23

System Name:

Public Affairs Files (August 7, 2006, 71 FR 44667)

Changes:

* * * * *

System name:

Delete entry and replace with “SCOUT and Public Affairs Files.”

System Location:

Delete entry and replace with “Office of the Inspector General Department of Defense, 4800 Mark Center Drive, Alexandria, Virginia 22350-1500.”

* * * * *

Categories of records in the system:

Delete entry and replace with “Records created or compiled in response to an inquiry, to include the response to the inquiry. Records may include staff packages, complaints, appeals, grievances, investigations, news media reports and articles pertaining to the DoD OIG military and civilian officials and Presidential Appointees to document the nature and details of inquiries; news media reports and articles pertaining to DoD OIG components, commands and/or systems; Congressional testimony and/or hearing transcripts; DoD military and civilian personnel speeches; Presidential and Congressional speeches pertaining to DoD OIG interests.”

* * * * *

Purpose(s):

Delete entry and replace with “To collect information about DoD OIG activities and functions and maintain a record of actions taken and responses.”

* * * * *

Retrievability:

Delete entry and replace with “Retrieved by name, subject or document date.”

* * * * *

Retention and disposal:

Delete entry and replace with “Recordkeeping copies (paper) destroy after 1 year. Copies created on electronic mail and word processing systems delete after recordkeeping copy has been produced.”

System Manager(s) and Address:

Delete entry and replace with “Office of the Inspector General Department of Defense, 4800 Mark Center Drive, Alexandria, Virginia 22350-1500.”

Notification Procedure:

Delete entry and replace with “Individuals seeking to determine whether information about themselves is contained in this system should address written inquiries to the Freedom of Information Act Requester Service Center/Privacy Act Office, Office of the Inspector General, Department of Defense, 4800 Mark Center Drive, Alexandria, Virginia 22350-1500.

Written request should contain the individual's full name, all former names and any alias(s) of the requester under which the file may be maintained. The request must be signed.”

Record Access Procedures:

Delete entry and replace with “Individuals seeking access to information about themselves contained in this system should address written inquiries to the Chief, Freedom of Information and Privacy Act Office, Office of the Inspector General Department of Defense, 4800 Mark Center Drive, Alexandria, Virginia 22350-1500.

Written request should contain the individual's full name, all former names and any alias(s) of the requester under which the file may be maintained. The request must be signed.”

* * * * *

Record Source Categories:

Delete entry and replace with “Information obtained from the Department of Defense Military Services and it's Components, U.S. Congress, DoD OIG Hotline, general public, public media, and source documents such as reports of investigation and/or audit.”

Exemptions Claimed for the System:

Delete entry and replace with “During the course of processing a request, exempt materials from other systems of records may become part of the records in this system. To the extent that copies of exempt records from those other systems of records are entered into this database, the Office of the Inspector General, DoD, hereby claims the same exemptions for the records from those other systems that are entered into this system, as claimed for the original primary systems of records which they are a part.

An exemption rule for this system has been promulgated in accordance with requirements of 5 U.S.C. 553(b)(1), (2), and (3), (c) and (e) and published in 32 CFR part 312. For additional information contact the system manager.”

[FR Doc. 2012-15857 Filed 6-27-12; 8:45 am]

BILLING CODE 5001-06-P